DEPARTMENT OF TRANSPORTATION

Federal Aviation Administration

Fourteenth RTCA SC-228 Plenary Session

AGENCY: Federal Aviation Administration (FAA), U.S. Department of Transportation (DOT).

ACTION: Fourteenth RTCA SC-228 Plenary Session.

SUMMARY: The FAA is issuing this notice to advise the public of a meeting of Fourteenth RTCA SC-228 Plenary Session.

DATES: The meeting will be held July 14, 2017, 9:00 a.m.-5:00 p.m.

ADDRESSES: The meeting will be held at: RTCA Headquarters, 1150 18th Street NW., Suite 910, Washington, DC 20036.

FOR FURTHER INFORMATION CONTACT: Al Secen at asecen@rtca.org or 202-330-0647, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Fourteenth RTCA SC-228 Plenary Session. The agenda will include the following:

Friday, July 14, 2017 9:00 a.m.-5:00 p.m.

1. Welcome and Introductions

2. Agenda Overview

3. DAA MOPS Approval

4. WG-1 White Paper Status Update—FRAC Announcement

5. WG-2 White Paper Status Update—FRAC Announcement

6. SC-228 and WG-105 Leadership Coordination

7. Leadership Meeting Update

8. Action Item Review

9. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on June 21, 2017.
Mohannad Dawoud,
Management & Program Analyst, Partnership Contracts Branch, ANG-A17 NextGen, Procurement Services Division, Federal Aviation Administration.

[FR Doc. 2017-13259 Filed 6-23-17; 8:45 am]

BILLING CODE 4910-13-P